DEPARTMENT OF COMMERCE

National Oceanic and Atmospheric Administration

RIN 0648-XH106

Fisheries of the South Atlantic; South Atlantic Fishery Management Council; Public Meeting

AGENCY: National Marine Fisheries Service (NMFS), National Oceanic and Atmospheric Administration (NOAA), Commerce.

ACTION: Notice of a public meeting.

SUMMARY: The South Atlantic Fishery Management Council (SAFMC) will hold a meeting of its Scientific and Statistical Committee (SSC), in Charleston, SC, to address issues relevant to the NOAA Fisheries' Marine Recreational Information Program (MRIP). See SUPPLEMENTARY INFORMATION.

DATES: The SSC meeting will be held from 1 p.m. to 5:30 p.m. on Monday, August 19, 2019; from 8:30 a.m. to 5:30 p.m. on Tuesday, August 20, 2019; and 8:30 a.m. to 3 p.m. on Wednesday, August 21, 2019.

ADDRESSES:

Meeting address: The meeting will be held at the Town & Country Inn and Suites, 2008 Savannah Hwy., Charleston, SC 29407; phone: (800) 334-6660 or (843) 571-1000; fax: (843) 766-9444.

Council address: South Atlantic Fishery Management Council, 4055 Faber Place Drive, Suite 201, N Charleston, SC 29405.

FOR FURTHER INFORMATION CONTACT: Kim Iverson, Public Information Officer, 4055 Faber Place Drive, Suite 201, North Charleston, SC 29405; phone: (843) 571-4366 or toll free (866) SAFMC-10; fax: (843) 769-4520; email: kim.iverson@safmc.net.

SUPPLEMENTARY INFORMATION: The following agenda items will be addressed by the SSC during the meeting:

1. Review and describe the sources of disparity between the Coastal Household Telephone Survey (CHTS) and the Fishing Effort Survey (FES) estimates of recreational effort used in the MRIP for SAFMC managed stocks, considering the impacts of the effort survey change and NOAA Fisheries' Southeast Fishery Science Center (SEFSC) post-processing.

a. Describe for a set of SAFMC managed species currently in the Southeast Data, Assessment, and Review (SEDAR) stock assessment process (Red Porgy, Greater Amberjack, King Mackerel, Golden Tilefish, and Gag) how the sources of disparity between CHTS and FES affect the FES catch estimate time series, with attention on trends, uncertainty, and potential outliers.

b. Review SEFSC post-survey processing and determine what portion of the difference in catch estimates is due to: (1) The change from CHTS to FES versus (2) the post-survey processing of the data by the SEFSC.

c. Identify a set of critical factors (e.g., spatial/temporal coverage of the data that were used in analysis for extrapolation, decision to exclude outlier/abnormal data points, error structures/statistical distributions used in analyses, etc.) most likely to contribute to CHTS/FES disparities for species managed by the SAFMC.

i. Describe how the sources of disparity and data issues identified for the 5 species examined above may affect estimates for other SAFMC species.

ii. Review recreational catch estimates for species currently being assessed (Golden Tilefish, Greater Amberjack, Red Porgy).

2. Establish approaches for the use of FES estimates for unassessed species.

The SSC will provide guidance to staff and recommendations for SAFMC consideration as necessary. The meeting is open to the public and will also be available via webinar as it occurs. Webinar registration is required. Information regarding webinar registration will be posted to the SAFMC website at: http://safmc.net/safmc-meetings/scientific-and-statistical-committee-meetings/ as it becomes available. The meeting agenda, briefing book materials, and online comment form will be posted to the website two weeks prior to the meeting. Written comment on SSC agenda topics is to be distributed to the Committee through the SAFMC office, similar to all other briefing materials. Written comment to be considered by the SSC shall be provided to the SAFMC office no later than one week prior to an SSC meeting. For this meeting, the deadline for submission of written comment is 12 p.m., Monday, August 12, 2019.

Multiple opportunities for comment on agenda items will be provided during the SSC meeting. Open comment periods will be provided at the start of the meeting and near the conclusion. Those interested in providing comment should indicate such in the manner requested by the SSC Chair, who will then recognize individuals to provide comment.

Although non-emergency issues not contained in the meeting agenda may come before this group for discussion, those issues may not be the subject of formal action during this meeting. Action will be restricted to those issues specifically identified in this notice and any issues arising after publication of this notice that require emergency action under section 305(c) of the Magnuson-Stevens Fishery Conservation and Management Act, provided the public has been notified of the intent to take final action to address the emergency.

Special Accommodations

This meeting is accessible to people with disabilities. Requests for auxiliary aids should be directed to the SAFMC office (see ADDRESSES) at least 5 business days prior to the meeting.

Note: The times and sequence specified in this agenda are subject to change.

Authority: 16 U.S.C. 1801 et seq.

Dated: July 18, 2019.
Tracey L. Thompson,
Acting Deputy Director, Office of Sustainable Fisheries, National Marine Fisheries Service.

[FR Doc. 2019-15598 Filed 7-22-19; 8:45 am]

BILLING CODE 3510-22-P